DEPARTMENT OF AGRICULTURE

Forest Service

Notice of Proposed New Fee Sites

AGENCY: Forest Service, Agriculture (USDA).

ACTION: Notice of proposed new fee sites.

SUMMARY: The Gifford Pinchot National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fees would be implemented no earlier than six months following the publication of this notice in the Federal Register.

ADDRESSES: Gifford Pinchot National Forest, 987 McClellan Rd., Vancouver, WA 98661.

FOR FURTHER INFORMATION CONTACT: Kyung Koh Willis, Recreation Program Manager, 360-891-5177 or kyung.willis@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Cat Creek Chimney and Chambers Lake Campgrounds are proposed at $15 per single site and $30 per double site, Chambers Lake will also have a $5 extra vehicle fee. The Marble Mountain Group Shelter is proposed for $100 per day for a group size of 100 people, Orr Creek and Wakepish Group Campground are proposed at $100 per night with group sizes of 75 and 100 people respectively. Twin Falls Group Campground is proposed at $50 per night, group size of 50 people. In addition, this proposal would implement new fees at five recreation rentals: Gotchen and Nisqually (Big Creek) Guard Stations is proposed at $85 per night, Red Mountain and Burley Mountain Lookouts are proposed at $90 per night, and La Wis Wis Guard Station is proposed at $150 per night. The Cat Creek OHV Area Permit is proposed at $10 per non-highway legal vehicle operator 16 and older for a two-day pass, or a $50 annual pass in Phase 1, and increasing prices to $20 for the two-day pass and $100 for the annual pass in Phase 2. The Mount Margaret Backcountry Permit is proposed at $10 per person 16 and older, per night.

A $5 Day Use fee per vehicle at Cascade Peaks, Cedar Creek, Chambers Lake, Coldwater Lake Picnic and Boating, Coldwater Science and Learning Center (winter operation only), Crest Camp, Donnybrook, Falls Creek Falls, Hemlock Recreation Area, Hummocks, June Lake, Loowit, Marble Mountain, Middle Falls, Siouxan, Snowgrass Trailhead, and South Coldwater Day Use Sites would be added to improve services and facilities. The Northwest Forest Pass and the full suite of interagency passes will be honored at these Day Use sites

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: August 1, 2022.
Sandra Watts,
Acting Associate Deputy Chief, National Forest System.

[FR Doc. 2022-16769 Filed 8-4-22; 8:45 am]

BILLING CODE 3411-15-P